FEDERAL ELECTION COMMISSION

Sunshine Act Meetings

TIME AND DATE: Thursday, May 6, 2021 at 10:00 a.m.

PLACE: Virtual Meeting.

Note: Because of the COVID-19 pandemic, we will conduct the open meeting virtually. if you would like to access the meeting, see the instructions below.

STATUS: This meeting will be open to the public. To access the virtual meeting, go to the commission's website, www.fec.gov, and click on the banner to be taken to the meeting page.

MATTERS TO BE CONSIDERED:

Draft Advisory Opinion 2021-05: Tally Up, LLC

Proposed Amendment to Directive 17

OIG FY 2022 Appropriations Language

Draft Legislative Recommendations 2021

Management and Administrative Matters

CONTACT PERSON FOR MORE INFORMATION: Judith Ingram, Press Officer, Telephone: (202) 694-1220.

Authority: Government in the Sunshine Act, 5 U.S.C. 552b.

Vicktoria J. Allen,
Acting Deputy Secretary of the Commission.

[FR Doc. 2021-09384 Filed 4-29-21; 4:15 pm]

BILLING CODE 6715-01-P